DEPARTMENT OF THE INTERIOR

National Park Service

[NPS-WASO-NAGPRA-NPS0025194; PPWOCRADN0-PCU00RP14.R50000]

Notice of Inventory Completion: U.S. Army Corps of Engineers, Omaha District, Omaha, NE, and State Archaeological Research Center, Rapid City, SD

AGENCY: National Park Service, Interior.

ACTION: Notice.

SUMMARY: The U.S. Army Corps of Engineers, Omaha District, (Omaha District) has completed an inventory of human remains and associated funerary objects, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Omaha District. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains should submit a written request with information in support of the request to the Omaha District at the address in this notice by May 4, 2018.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains under the control of the U.S. Army Corps of Engineers, Omaha District and in the physical custody of the South Dakota State Archaeological Research Center (SARC). The human remains were removed from sites 39LM0002 and 39WW0001 in Lyman and Walworth Counties, SD.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by SARC and Omaha District professional staff in consultation with representatives of the Three Affiliated Tribes of the Fort Berthold Reservation, North Dakota.

History and Description of the Remains

In 1962, human remains representing, at minimum, one individual were removed from site 39LM0002 in Lyman County, SD, by W.W. Caldwell and R.T. Carter, archeologists from the Smithsonian Institution, as part of the Smithsonian Institution River Basin Surveys project. Most of the human remains from this excavation were sent to the Smithsonian Institution immediately after removal, where they are still housed. Other site materials, including faunal remains, were housed at Nebraska State Historical Society and later loaned to researcher Carl Falk. In 1989, the faunal remains at Nebraska State Historical Society were returned to SARC. In 1994, Carl Falk returned the loaned faunal collection to SARC, and at that time, human remains were discovered in the faunal collection. The human remains are a single human talus. No known individual was identified. No associated funerary objects are present.

Site 39LM0002, Medicine Creek Village, is a multicomponent village site on the left bank of the Missouri river near the confluence with Medicine Creek. The human remains were collected from a burial within a midden. The rectangular earthlodge located under the midden is associated with the Initial Middle Missouri variant (A.D. 900-1350). Based on the earthlodge, as well as collected ceramic types, site features, and the house floor plans, the human remains are determined to be Native American from the Initial Middle Missouri variant, which is ancestral to the Mandan. The Mandan are represented today by the Three Affiliated Tribes of the Fort Berthold Reservation, North Dakota.

In approximately 1956, human remains representing, at minimum, one individual were removed from site 39WW0001, in Walworth County, SD, during a salvage archeological project to mitigate sites that would be lost to the Oahe Dam inundation. This project was led by a University of Wisconsin (UW), Madison, Department of Anthropology faculty member, David Baerreis. Dr. Baerreis' crew surveyed several sites as part of their project and then chose three to excavate. While 39WW0001 was not chosen for excavation, it is likely that the collections were made during the survey. The collections were stored at the University of Wisconsin (UW), Madison. In 2010, the U.S. Corps of Engineers contracted with UW, Madison, to rehabilitate Baerreis' collection. During this project, human remains were found in the collection, and in 2015, the human remains were transferred from UW, Madison, to SARC. The human remains are a single adult human humerus. No known individual was identified. No associated funerary objects are present.

Site 39WW0001, Mobridge Village Site, is an earthlodge village site on the east shore of Lake Oahe near the city of Mobridge. The first excavations at the site occurred in 1917, at which time it was described as an Arikara village. Further studies described the village as belonging to the Post-Contact Coalescent tradition. Materials that were collected from the site, including lithic debris, modified bone, and ceramic rimsherds, are consistent with the Post-Contact Coalescent tradition. Based on the site context, the human remains are determined to be Native American. The Post-Contact Coalescent tradition is believed to be affiliated with the Arikara. The Arikara are represented today by the Three Affiliated Tribes of the Fort Berthold Reservation, North Dakota.

Determinations Made by the Omaha District

Officials of the U.S. Army Corps of Engineers, Omaha District have determined that:

• Pursuant to 25 U.S.C. 3001(9), the human remains described in this notice represent the physical remains of two individuals of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian Tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil, by May 4, 2018. After that date, if no additional requestors have come forward, transfer of control of the human remains the Three Affiliated Tribes of the Fort Berthold Reservation, North Dakota, may proceed.

The U.S. Army Corps of Engineers, Omaha District, is responsible for notifying the Three Affiliated Tribes of the Fort Berthold Reservation, North Dakota, that this notice has been published.

Dated: March 9, 2018.
Melanie O'Brien,
Manager, National NAGPRA Program.

[FR Doc. 2018-06831 Filed 4-3-18; 8:45 am]

BILLING CODE 4312-52-P